DEPARTMENT OF ENERGY

Record of Decision for the Savannah River Site Spent Nuclear Fuel Management Final Environmental Impact Statement, Aiken, SC

AGENCY: Department of Energy (DOE).

ACTION: Record of decision.

SUMMARY: The Savannah River Site Spent Nuclear Fuel Management Environmental Impact Statement (SRS SNF Management EIS, DOE/EIS-0279, March 2000) considered alternative ways of managing spent nuclear fuel (SNF) at DOE's Savannah River Site in Aiken, South Carolina. Based on that analysis, DOE has decided to implement the Preferred Alternative identified in the EIS. As part of the Preferred Alternative, DOE will develop and demonstrate the Melt and Dilute technology to manage about 97 percent by volume and 60 percent by mass of the aluminum-based SNF considered in the EIS (48 metric tons of heavy metal (MTHM) aluminum-based SNF).

Following development and demonstration of the technology (including characterization and qualification of the Melt and Dilute product to meet anticipated repository acceptance criteria), DOE will begin detailed design, construction, testing, and startup of a Treatment and Storage Facility (TSF). The SNF will remain in existing wet storage until treated and placed in dry storage in the TSF. The TSF will combine the transfer and treatment (Melt and Dilute) functions, to be constructed in the existing 105-L building, with a new dry storage facility to be constructed in L Area near the 105-L building.

DOE also has decided to use Conventional Processing (i.e., the existing canyons) to stabilize about 3 percent by volume and 40 percent by mass of the aluminum-based SNF. If the TSF becomes available before these materials have been stabilized, DOE may use the Melt and Dilute technology rather than Conventional Processing for their stabilization. DOE has also decided to continue to store small quantities of higher actinide materials until DOE determines their final disposition.

In addition, DOE will ship approximately 20 MTHM of non-aluminum-based SNF from the SRS to the Idaho National Engineering and Environmental Laboratory (INEEL). If DOE identifies any imminent health and safety concerns involving any aluminum-based SNF before the TSF becomes available, DOE will use Conventional Processing to stabilize the material of concern.

ADDRESSES: Copies of the SRS SNF Management EIS and this Record of Decision may be obtained by calling a toll free number (1-800-881-7292), sending an e-mail request to “nepa@srs.gov,” or by mailing a request to: Andrew Grainger, National Environmental Policy Act (NEPA) Compliance Officer, Savannah River Operations Office, Department of Energy, Building 742A, Room 185, Aiken, South Carolina 29808. The final SRS SNF Management EIS (including the 33-page Summary) and this Record of Decision are available on the Office of Environmental Management's web site, http://www.em.doe.gov, and on DOE's NEPA web site, http://tis.eh.doe.gov/nepa/.

FOR FURTHER INFORMATION CONTACT: Questions concerning the SRS SNF management program can be submitted by calling 1-800-881-7292, mailing them to Mr. Andrew Grainger at the above address, or sending them electronically to the Savannah River Operations e-mail address, “nepa@srs.gov.”

For general information on the DOE NEPA process, please contact: Carol M. Borgstrom, Director, Office of NEPA Policy and Compliance, U.S. Department of Energy, 1000 Independence Avenue, S.W., Washington, DC 20585, 202-586-4600 or leave a message at 1-800-472-2756.

SUPPLEMENTARY INFORMATION:

Background

DOE previously completed the Interim Management of Nuclear Materials (IMNM) EIS (DOE/EIS-0220, October 1995), that included the management of 195 MTHM of aluminum-based SNF at the SRS. The primary purpose of the actions considered in the IMNM EIS was to correct or eliminate potential health and safety vulnerabilities related to some of the methods used to store nuclear materials (including SNF) at the SRS.

After completion of the IMNM EIS, DOE decided to stabilize about 175 MTHM of the 195 MTHM of aluminum-based SNF that was in storage at the SRS in 1995. DOE also decided the remaining 20 MTHM (out of 195 MTHM) of aluminum-based SNF at SRS was “stable” (i.e., the SNF likely could be safely stored for about 10 more years, pending decisions on final disposition). That 20 MTHM of aluminum-based SNF is included in the SNF inventory considered in the SRS SNF Management EIS. In addition, the SRS SNF Management EIS considered approximately 20 MTHM of other SNF that is to be managed at the SRS as a result of prior NEPA analyses, as described below.

In 1995, DOE undertook a decision-making process to consolidate SNF across its nuclear facility complex. The Record of Decision (60 FR 28680, June 1, 1995; amended 61 FR 9441, March 8, 1996) for the Programmatic Spent Nuclear Fuel Management and Idaho National Engineering Laboratory Environmental Restoration and Waste Management Programs EIS (DOE/EIS-0203, April 1995) identified three facilities within the DOE complex where SNF should be managed. The facilities were chosen based on fuel types.

DOE decided that existing Hanford production reactor SNF would remain at Hanford, aluminum-based SNF would be consolidated at the SRS, and non-aluminum-based SNF would be consolidated at the INEEL. As a result, DOE will transfer about 20 MTHM of non-aluminum-based SNF from the SRS to INEEL and about 5 MTHM of aluminum-based SNF from INEEL to the SRS. Thus, the SRS SNF Management EIS evaluated the impacts of preparing 20 MTHM of non-aluminum-based SNF for shipment from the SRS to INEEL. The SRS SNF Management EIS also evaluated the management and treatment options for the 5 MTHM of aluminum-based SNF due to be received from INEEL.

In 1996, DOE issued a Record of Decision for the Final EIS on a Proposed Nuclear Weapons Nonproliferation Policy Concerning Foreign Research Reactor Spent Nuclear Fuel (DOE/EIS-0218, February 1996). DOE decided (61 FR 25092, May 17, 1996) to accept approximately 18 MTHM of aluminum-based SNF (of United States origin) from foreign research reactors for management at the SRS, with additional SNF to be managed at INEEL. Shipments of foreign research reactor SNF to the SRS began in 1996 and are expected to continue until 2009. Consequently, the potential environmental impacts of managing and treating the 18 MTHM of aluminum-based foreign research reactor fuel were evaluated in the SRS SNF Management EIS.

The SRS SNF Management EIS also evaluated the treatment and storage of about 5 MTHM of aluminum-based domestic research reactor SNF. Shipments of spent domestic research reactor fuel to the SRS for management were assumed to continue until 2035. Finally, the SRS SNF Management EIS evaluated the storage and/or repackaging of higher actinide targets. These targets contain americium and curium isotopes that could be used in the production of elements with higher atomic numbers such as californium-252. Californium-252 is used as a neutron source for radiography and in the treatment of certain types of cancer, and for research in basic chemistry, nuclear physics, and solid-state chemistry. The mass of higher actinide targets stored at the SRS is less than 0.1 MTHM.

As detailed above, the total quantity of SNF to be managed by the SRS that is evaluated in the SRS SNF Management EIS is approximately 68 MTHM, composed of 48 MTHM aluminum-based SNF and 20 MTHM non-aluminum-based SNF.

The 48 MTHM of aluminum-based SNF to be managed and prepared for disposition are comprised as follows: 20 MTHM in existing wet storage; about 10 MTHM to be received from INEEL and domestic research reactors; and up to 18 MTHM to be received from foreign research reactors. The SRS must also manage about 20 MTHM of non-aluminum-based SNF until it is shipped to INEEL.

DOE expects to dispose of its aluminum-based SNF in a geologic repository after treatment or packaging. To achieve that goal, DOE is developing and preparing to implement a management strategy that includes preparing SRS aluminum-based SNF for disposal. DOE is committed to avoiding indefinite storage at the SRS of SNF in a form that is unsuitable for disposal. Therefore, DOE has identified management technologies and facilities for storing and treating this SNF in preparation for disposal.

Materials Analyzed

In order to facilitate the identification of appropriate treatment technologies for the SNF, DOE grouped the SNF based on characteristics such as fuel size, physical and chemical properties, and radionuclide inventory. SNF was assigned to six SNF groups. For the reader's convenience, the six SNF groups will be referred to according to the letters A through F as listed below:

Group A. Uranium and Thorium Metal Fuels

Group B. Material Test Reactor-Like Fuels

Group C. Highly Enriched Uranium (HEU)/Low Enriched Uranium (LEU) Oxides and Silicides

Group D. Loose Uranium Oxide

Group E. Higher Actinide Targets

Group F. Non-Aluminum-Clad Fuels.

The six SNF groups are described in the SRS SNF Management EIS beginning on page 1-7.

Technologies Analyzed

DOE identified seven technologies that could be used to prepare SNF at SRS for disposition: (1) Prepare for Direct Disposal/Direct Co-Disposal; (2) Repackage and Prepare to Ship to Other DOE Sites; (3) Melt and Dilute; (4) Mechanical Dilution; (5) Vitrification Technologies; (6) Electrometallurgical Treatment; and (7) Conventional Processing Technology.

Technologies 1 and 2 are “New Packaging Technology options;” technologies 3 through 6 are “New Processing Technology options.” Most of the New Packaging Technology options and the New Processing Technology options are technologies that DOE previously has not applied to the management of aluminum-based SNF for the purpose of ultimate disposition. DOE assigned the highest confidence of success and greatest technical suitability to options that have relatively simple approaches.

These seven technologies are described in the SRS SNF Management EIS beginning at page 2-8. The applicability of the New Packaging Technology options to the SNF groups is shown in Table 2-1 (page 2-10), and the applicability of the New Processing Technology options to the SNF groups is shown in Table 2-2 (page 2-14). The applicability of Conventional Processing technology to the SNF groups is described on page 2-17 of the SRS SNF Management EIS.

Alternatives Considered

Considering the technology options applicable to the SNF groups and decisions previously made about managing certain types of SNF, DOE developed five broad categories of alternatives that could be used to manage SRS SNF: No-Action, Minimum Impact, Direct Disposal, Maximum Impact, and the Preferred Alternative. These alternatives are summarized below and in Table 2-8 (page 2-36 of the SRS SNF Management EIS), and described in more detail in the SRS SNF Management EIS beginning on page 2-35. For wastes generated under all alternatives, DOE would use the existing SRS waste management facilities to treat, store, dispose, or recycle the waste in accordance with applicable requirements.

Preferred Alternative

DOE's Preferred Alternative is to use a combination of technologies (Melt and Dilute, Conventional Processing, and Repackage and Prepare to Ship to Other DOE Sites) to manage the SNF. The Preferred Alternative is within the mid-range on the scale of potential environmental impacts and provides for the long-term protection of the environment. DOE expects that the materials resulting from the Melt and Dilute process and Conventional Processing would be acceptable for disposal in a geologic repository. The Preferred Alternative would meet all legal requirements and policy commitments. In addition, the Preferred Alternative is consistent with DOE's long-range plans to dispose of SNF.

Under the Preferred Alternative, DOE would use each technology to treat specific groups of SNF as described below and in the SRS SNF Management EIS (on page 2-38, and in Figure 2-15, page 2-40). Melt and Dilute would be used to treat Group B, most of Group C, and most of Group D. Conventional processing would be used for Group A, part of Group C, and part of Group D. Continued wet storage would be used for Group E. Repackage and Prepare to Ship to Other DOE Sites would be used for Group F.

DOE will continue to store small quantities of higher actinide materials until DOE determines their final disposition, and will continue to wet-store the Non-Aluminum-Clad SNF at SRS until the material is shipped to the INEEL. DOE could transfer the Non-Aluminum-Clad SNF to dry storage after the material has been relocated from the Receiving Basin for Offsite Fuel to the L-Reactor Disassembly Basin in support of activities to phase-out operations in the Receiving Basin for Offsite Fuel by fiscal year 2007.

No Action

Under the No Action Alternative, DOE would continue to store the SNF in the wet basins at the SRS indefinitely with the exception of Group F, for which the alternative, Repackage and Prepare to Ship to Other DOE Sites, would be used. While the No Action Alternative would result in few immediate environmental impacts, it provides for the least overall protection of the environment because it would not prepare the SNF for eventual disposal in a repository. Over the potential 40 years of continued wet storage under the No Action Alternative, some fuel could deteriorate.

Conventional Processing facilities, if they were operating for other reasons, could be used to stabilize any SNF that presented an environmental, safety, or health vulnerability. Conventional Processing facilities, however, are extremely unlikely to be operating over the entire potential 40 years of continued wet storage, and under the No Action Alternative there would be no means to stabilize SNF that presented a health or safety vulnerability once the Conventional Processing facilities were shut down. In addition, this alternative is inconsistent with DOE's commitment to avoid indefinite SNF storage at the SRS in a form that is unsuitable for final disposition.

Minimum Impact

The Minimum Impact Alternative combines the technologies (Prepare for Direct Disposal/Direct Co-Disposal, Melt and Dilute, Repackage and Prepare to Ship to Other DOE Sites) that DOE believes would result in the lowest overall potential environmental impact from SNF management. Prepare for Direct Disposal/Direct Co-Disposal would be used for Groups A, B, and C. Melt and Dilute would be used to treat Group D. Repackage and Prepare to Ship to Other DOE Sites would be used for Groups E and F.

The Minimum Impact Alternative was not selected because the use of Prepare for Direct Disposal/Direct Co-Disposal for HEU aluminum-clad fuel has a high degree of technical uncertainty concerning the acceptance of this type of fuel in a geologic repository without treatment. DOE has committed to store its SNF at the SRS in a “road-ready”/disposal form.

Even if most of the HEU aluminum-clad SNF could be directly disposed of, there is a small portion of that SNF that DOE believes could not be disposed of without treatment. A Melt and Dilute facility thus would have to be developed in any event for that small portion of SNF. Finally, for any SNF that presented a potential health and safety vulnerability, mitigating actions (i.e., packaging and dry storage) would be delayed for several years.

Maximum Impact

The Maximum Impact Alternative analyzed in the SRS SNF Management EIS represents the upper bound on the range of potential environmental impacts. For the analyses, two technologies (Conventional Processing and Repackage and Prepare to Ship to Other DOE Sites) are used for the management of the SNF. Repackage and Prepare to Ship to Other Sites would be used for SNF from Groups E and F. Conventional Processing would be used to treat all remaining SNF groups, including the Mark-18 targets from Group E.

This alternative would generate the greatest volume of liquid high-level waste that would have to be stored and eventually vitrified into glass canisters in the Defense Waste Processing Facility at the SRS. DOE has a high level of confidence that the vitrified (borosilicate glass) waste canisters would meet geologic repository acceptance criteria because borosilicate glass has been tested and analyzed extensively under potential repository conditions.

Conventional Processing operations would continue until the aluminum-based SNF inventory was eliminated and the SNF receipt rate was low (i.e., about 150 Materials Test Reactor-like elements per year and 12 High Flux Isotope Reactor assemblies per year). This state would be expected to occur around 2009. In parallel with the Conventional Processing operations, DOE could construct a Transfer, Storage, and Treatment Facility with capability to manage newly received SNF after Conventional Processing operations ceased.

As stated in the SRS SNF Management EIS and based on the Record of Decision on a Nuclear Weapons Nonproliferation Policy Concerning Foreign Research Reactor Spent Nuclear Fuel (61 FR 25092, May 17, 1996), DOE prefers not to utilize Conventional Processing for reasons other than addressing safety and health concerns. In addition, H-Canyon capacity is already scheduled for several years to process materials other than those considered in the SRS SNF Management EIS, and therefore would not be available for several years to process SNF that did not present a health or safety vulnerability.

Direct Disposal

The Direct Disposal Alternative would use a combination of technologies (Conventional Processing, Prepare for Direct Disposal/Direct Co-Disposal, Melt and Dilute, and Repackage and Prepare to Ship to Other DOE Sites) to manage the SNF. This alternative is within the mid-range on the scale of potential environmental impacts.

Conventional Processing would be used for all of Group A, the Sterling Forest Oxide from Group D, and the failed or sectioned SNF from Group C because these materials present potential health and safety concerns and would not likely be suitable for placement in a geologic repository. Prepare for Direct Disposal/Direct Co-Disposal would be used for Group B and all SNF (except the failed and sectioned SNF) in Group C. Melt and Dilute would be used for a majority of the SNF in Group D. Repackage and Prepare to Ship to Other DOE Sites would be used for Groups E and F.

The Direct Disposal Alternative was not selected because there is a high degree of technical uncertainty regarding the potential acceptability of HEU aluminum-clad SNF for disposal in a geologic repository, and because costs of developing and building a Melt and Dilute Facility would have to be incurred to treat only a small portion of the SNF.

Environmentally Preferable Alternative

The environmentally preferable alternative is the Minimum Impact Alternative because implementation of this alternative would result in the lowest overall environmental impacts. The Minimum Impact Alternative was not selected because the use of Prepare for Direct Disposal/Direct Co-Disposal for HEU aluminum-clad fuel has a high degree of technical uncertainty concerning the ability of this type of SNF to be accepted in a geologic repository without treatment. If treatment were required to prepare SNF for disposal, further environmental impacts would result. Further, use of Melt and Dilute for any SNF that could not be directly disposed of would be costly. Finally, deferred treatment of any SNF with potential health and safety vulnerabilities is not considered a prudent course of action.

Comments on Savannah River Site Spent Nuclear Fuel Management Final Environmental Impact Statement

Three public comments were received on the final EIS. One comment from Coalition 21, a not-for-profit corporation that promotes nuclear technology, opposed the use of the Melt and Dilute technology because potentially valuable HEU would be discarded, and because this technology would be more dangerous than Conventional Processing due to the higher temperature required for the Melt and Dilute technology. The amount of HEU that would be discarded would be insignificant compared to the amount of enriched uranium available to commercial nuclear power plants. Moreover, there is an excess supply of uranium for commercial use for the foreseeable future. Finally, all of the HEU from the research reactor SNF has been irradiated and, if this material were recovered and blended down for use in commercial nuclear power plants, the presence of uranium-236 in the enriched uranium would make it less attractive for use in nuclear fuels. DOE has experience in the melting of HEU and has a good safety record.

While DOE acknowledges that some uncertainty surrounds the new technology, the development of the Melt and Dilute technology and the design of the TSF would ensure that safety standards are met and environmental releases are minimized. Further, safety analyses would be performed to ensure that the process would be safe and the risks to the public and plant personnel would be low.

The second public comment, from the United States Environmental Protection Agency (EPA), Region 4, stated that EPA continued to have environmental concerns about cumulative impacts of the project. DOE discussed this comment with EPA staff because no specific concerns were cited. EPA staff told DOE that this comment reflected the uncertainty regarding what alternative DOE ultimately would decide to implement. DOE has provided a thorough analysis of the cumulative impacts of SNF management at the SRS in Chapter 5 of the SRS SNF Management EIS, and believes that, by selecting the Preferred Alternative, it has addressed EPA's concerns.

The third public comment, from the Centers for Disease Control and Prevention, Public Health Service, Department of Health and Human Services, stated that the Department of Health and Human Services' concerns have been addressed in the final EIS, and that the Department had no additional comments.

Decision

DOE has decided to implement the Preferred Alternative identified in the SRS SNF Management EIS, which provides for long-term protection of the environment and minimizes potential short-term environmental impacts and health risks. Specifically:

1. DOE has decided to implement the Melt and Dilute technology for managing about 97 percent by volume and 60 percent by mass of the 48 MTHM of aluminum-based SNF considered in the SRS SNF Management EIS. Implementation of the Melt and Dilute technology will be achieved through development and demonstration of the technology using full-size irradiated fuel elements, characterization and qualification of the Melt and Dilute SNF product to meet anticipated geologic repository acceptance criteria, completion of full-scale facility design, and construction, testing, and startup of the TSF. These implementation steps will build on the development work done to date and will proceed in a disciplined manner to ensure that operation of the TSF is achieved. The fuel will remain in wet storage basins at the SRS until treated and placed in dry storage in the TSF. The specific steps in the DOE implementation program include continuation of the development program leading to a demonstration of the Melt and Dilute technology in FY 2002 using full-size irradiated research reactor SNF assemblies. Information from this program will support the detailed design effort and reduce engineering and operational uncertainties. Based upon preliminary review and feedback from the Nuclear Regulatory Commission and the DOE Office of Civilian Radioactive Waste Management, DOE believes that the work to characterize and qualify the product from the Melt and Dilute technology can be completed. DOE will pursue a disciplined implementation approach that builds on the success of the development, demonstration, and qualification efforts, and incorporates recent project management improvements instituted by DOE.

DOE plans to complete the conceptual design for the TSF in FY 2002, to be followed in FY 2003 by preparation of preliminary design, which will incorporate information gained from the Melt and Dilute technology demonstration. Preliminary design will be followed by final design in FY 2004 and FY 2005. When the preliminary design is completed, the construction cost estimate and schedule will be reviewed and validated to establish the project baselines for completing the TSF.

With this implementation strategy, DOE expects to have the TSF ready for Melt and Dilute and dry storage operations in FY 2008. DOE will ensure continued availability of the SRS Conventional Processing facilities until DOE has demonstrated implementation of the Melt and Dilute technology.

To implement the Melt and Dilute technology, DOE will construct a Melt and Dilute facility in the existing 105-L building at the SRS and build a dry storage facility in L Area, near the 105-L building. As a back-up to Melt and Dilute, DOE will continue to evaluate the Prepare for Direct Disposal/Direct Co-Disposal option of the New Packaging Technology and would pursue implementation of this option if Melt and Dilute were not feasible. DOE has decided that Group B SNF, most Group C SNF, and most Group D SNF would be stored and then treated using the TSF when it becomes available.

If DOE identifies any imminent health and safety concerns involving any aluminum-based SNF before TSF becomes operational, DOE has decided to use Conventional Processing to stabilize the material of concern. This decision is consistent with the Record of Decision on a Nuclear Weapons Nonproliferation Policy Concerning Foreign Research Reactor Spent Nuclear Fuel, under which DOE decided to pursue one or more new technologies that would put the foreign research reactor SNF in a form or container that is eligible for direct disposal in a geologic repository. In addition, the Melt and Dilute technology is fully compatible and supportive of the nonproliferation objectives of the United States.

2. DOE has decided to use Conventional Processing to stabilize a small portion of materials before a new treatment facility is in place. The rationale for this processing is to avoid the possibility of urgent future actions, including expensive recovery actions that would entail unnecessary radiation exposure to workers, and, in one case, to manage a unique waste form (i.e., core filter block).

This material includes the Experimental Breeder Reactor—II SNF, the Sodium Reactor Experiment SNF, the Mark-42 targets, and the core filter block from Group A; the failed or sectioned Tower Shielding Reactor, High Flux Isotope Reactor, Oak Ridge Reactor, and Heavy Water Components Test Reactor SNF and a Mark-14 target from Group C; and the Sterling Forest Oxide (and any other powdered/oxide fuel that may be received at SRS while H-Canyon is still in operation) from Group D.

Although it is possible that Melt and Dilute technology could be applied to most of these materials, DOE considers timely alleviation of potential health and safety vulnerabilities to be the most prudent course of action because it would stabilize materials whose forms or types pose a heightened probability of releasing fission products in wet storage. Nonetheless, if these materials have not been stabilized before the TSF becomes available, the TSF may be used rather than Conventional Processing. Some of this fuel will be processed in H-Canyon where the highly enriched uranium would be blended down to low enriched uranium and stored pending potential sale as feed stock for commercial nuclear fuel.

3. DOE has decided to continue to wet-store the Mark-18, Mark-51 and the other higher actinide targets until DOE determines their final disposition. In addition, 20 MTHM of non-aluminum-based SNF will be shipped to INEEL.

In reaching these decisions, DOE considered a number of factors, including the paramount goal that the processes and facilities used to prepare aluminum-based SNF for disposal in a geologic repository be cost-effective and present only low risks to workers and the public.

Other factors considered in this decision include the environmental analyses reported in the SRS SNF Management EIS; estimated costs of the alternatives evaluated in the Report on the Savannah River Site Aluminum-based Spent Nuclear Fuel Alternatives Cost Study; nonproliferation impacts as reported in the DOE Office of Arms Control and Nonproliferation report, “Nonproliferation Impacts Assessment for the Management of the Savannah River Site Aluminum-Based Spent Nuclear Fuel;” the National Academy of Sciences report, “Research Reactor Aluminum Spent Fuel—Treatment Options for Disposal;” regulatory implications of the alternatives; DOE missions; and public comments on both the SRS SNF Management Draft and Final EIS, including those of the Defense Nuclear Facilities Safety Board.

DOE evaluated factors such as technical availability, nonproliferation and safeguards, cost, labor availability and core competency, and custodial care. There were no issues associated with these factors that indicated a clear advantage or disadvantage for a particular SNF management alternative.

Mitigation

DOE is committed to operating the SRS in compliance with all applicable laws, regulations, DOE orders, permits and compliance agreements. Section 4.3 of the SRS SNF Management EIS presents an overview of the mitigation measures that will be taken to minimize the risks associated with the construction and operation of the TSF (e.g., strong “stop work” stipulations in the event that cultural resources or human remains are discovered, and runoff control). DOE considers these to be routine mitigation measures that do not require a mitigation action plan (see 10 CFR 1021.331(a)).

Issued at Washington, DC, July 24, 2000.
Carolyn L. Huntoon,
Assistant Secretary for Environmental Management.

[FR Doc. 00-19926 Filed 8-4-00; 8:45 am]

BILLING CODE 6450-01-P